GENERAL SERVICES ADMINISTRATION

[OMB Control No. 3090-0080; Docket No. 2021-0001; Sequence No. 3]

Information Collection; General Services Administration Acquisition Regulation; Contract Financing Final Payment, GSA Form 1142, Release of Claims; Correction

AGENCY: General Services Administration (GSA).

ACTION: Notice; Correction.

SUMMARY: This document corrects a docket number in a Federal Register notice published on Friday, April 16, 2021, that announced an information collection renewal and request for comment.

FOR FURTHER INFORMATION CONTACT: Bryon Boyer, Procurement Analyst, Office of Governmentwide Policy, 202-501-4755.

Correction

In the Federal Register of April 16, 2021 in FR Doc. 2021-07806 on page 20159, in column three, correct “Docket No. 2021-0053” to read “Docket No. 2021-0001”

Jeffrey A. Koses,
Senior Procurement Executive, Office of Acquisition Policy, Office of Government-wide Policy.

[FR Doc. 2021-08364 Filed 4-21-21; 8:45 am]

BILLING CODE 6820-61-P